DEPARTMENT OF THE INTERIOR

Bureau of Land Management

[LLNVC00000.L16100000.DP0000 LXSS155F0000 MO# 4500076625]

Notice of Extension of the Public Comment Period for the Notice of Availability of the Carson City District Draft Resource Management Plan and Environmental Impact Statement, Nevada

AGENCY: Bureau of Land Management, Interior.

ACTION: Notice.

SUMMARY: The Bureau of Land Management (BLM) published a Notice of Availability for the Carson City District Draft Resource Management Plan (RMP) and Draft Environmental Impact Statement (EIS) in the Federal Register on November 28, 2014, 79 FR 70892, and announced the availability of these documents. In response to multiple requests, the BLM is extending the public comment period for the Draft RMP and Draft EIS until April 27, 2015.

DATES: The comment period is extended to April 27, 2015.

ADDRESSES: You may submit comments related to the Carson City District Draft RMP/Draft EIS may be submitted by any of the following methods:

• Web site: http://on.doi.gov/1uYBNGT.

• Email: BLM_NV_CCDO_RMP@blm.gov.

• Fax: 775-885-6147.

• Mail: BLM Carson City District, Attn: CCD RMP, 5665 Morgan Mill Rd., Carson City, NV 89701.

Copies of the Carson City District Draft RMP/Draft EIS are available in the Carson City District Office at the above address or on the following Web site http://on.doi.gov/1uYBNGT.

FOR FURTHER INFORMATION CONTACT: Colleen Sievers, RMP Project Manager, 775-885-6000; 5665 Morgan Mill Rd., Carson City, NV 89701; BLM_NV_CCDO_RMP@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The Carson City District Draft RMP/Draft EIS would replace the existing 2001 Carson City Field Office Consolidated RMP. The Draft RMP/Draft EIS was developed through a collaborative planning process. The Carson City District Draft RMP/Draft EIS decision area encompasses approximately 4.8 million acres of public land administered by the BLM Carson City District in portions of 11 counties within 2 States (Washoe, Storey, Carson City, Douglas, Lyon, Churchill, Mineral, and Nye counties within Nevada; and Alpine, Plumas, and Lassen counties within California). It does not include private lands, State lands, Indian reservations, Federal lands not administered by BLM. The Carson City District Draft RMP/Draft EIS includes goals, objectives and management actions for protecting and preserving natural resources which includes air quality, soil and water resources, vegetation, fish and wildlife, special status species, wild horses and burros, wildland fire management, cultural and paleontological resources, visual resource values, and lands with wilderness characteristics. Multiple resource uses are addressed which include management and forage allocations for livestock grazing; delineation of lands open, closed, or subject to special stipulations or mitigation measures for minerals development; recreation and travel management designations; management of lands and realty actions, including delineation of avoidance and exclusion areas applicable to rights-of-ways (ROWs), land tenure adjustments, and solar and wind energy development. The planning effort will consider establishment of a national trail management corridor for the congressionally-designated California and Pony Express National Historic Trails. Eligible river segments will be evaluated for suitability as components of the National Wild and Scenic River System and 23 new Areas of Critical Environmental Concern (ACECs) are proposed. The ACECs are proposed to protect natural and cultural resource values and traditional Native American use areas.

Authority: 40 CFR 1506.6, 40 CFR 1506.10, 43 CFR 1610.2.

Marci L. Todd,
Acting State Director, Nevada.

[FR Doc. 2015-06605 Filed 3-23-15; 8:45 am]

BILLING CODE 4310-HC-P